DEPARTMENT OF HOUSING AND URBAN DEVELOPMENT

[Docket No. FR-4950-FA-05]

Housing Counseling Program; Announcement of Funding Awards for Fiscal Year 2005

AGENCY: Office of the Assistant Secretary for Housing-Federal Housing Commissioner, HUD.

ACTION: Announcement of funding awards.

SUMMARY: In accordance with section 102(a)(4)(C) of the Department of Housing and Urban Development Reform Act of 1989 (42 U.S.C 3545), this announcement notifies the public of funding decisions made by the Department in a Super Notice of Funding Availability (NOFA) competition for funding of HUD-approved counseling agencies to provide counseling services. Appendix A contains the names and addresses of the agencies competitively selected for funding and the award amounts. Intermediaries are listed first and subsequent awards are grouped by their respective HUD Homeownership Center. Additionally, this announcement lists the noncompetitive housing counseling awards made by the Department.

FOR FURTHER INFORMATION CONTACT: Ruth Román, Director, Program Support Division, Room 9274, Office of Single Family Housing, Department of Housing and Urban Development, 451 Seventh Street, SW., Washington, DC 20410, telephone (202) 708-0317. Hearing- or speech-impaired individuals may access this number by calling the Federal Information Relay Service on 800-877-8339. (This is a toll free number.)

SUPPLEMENTARY INFORMATION: The Housing Counseling Program is authorized by Section 106 of the Housing and Urban Development Act of 1968 (12 U.S.C. 1701x). HUD enters into agreement with qualified public or private nonprofit organizations to provide housing counseling services to low- and moderate-income individuals and families nationwide. The services include providing information, advice and assistance to the homeless, renters, first-time homebuyers, homeowners, and senior citizens in areas such as pre-purchase counseling, financial management, property maintenance and other forms of housing assistance to help individuals and families improve their housing conditions and meet the responsibilities of tenancy and homeownership.

HUD funding of approved housing counseling agencies is not guaranteed and when funds are awarded, a HUD grant does not cover all expenses incurred by an agency to deliver housing counseling services. Counseling agencies must actively seek additional funds from other sources such as city, county, state and federal agencies and from private entities to ensure that they have sufficient operating funds. The availability of Housing Counseling grants depends upon appropriations and the outcome of the award competition.

The 2005 grantees announced in Appendix A of this notice were selected for funding through a competition announced in a NOFA published in the Federal Register on March 21, 2005 (70 FR 13806) for the Housing Counseling Program. Applications were scored and selected for funding on the basis of selection criteria contained in the NOFA. HUD awarded $41,706,033 in housing counseling grants to 383 housing counseling organizations nationwide: 349 local agencies, 18 intermediaries, and 16 State housing finance agencies. Included in this figure is: $2,535,135 awarded to six intermediaries, sixteen State housing finance agencies (SHFAs) and thirty-one local housing counseling agencies (LHCAs) for the purpose of combating predatory lending; $1,435,711 awarded to five intermediaries, two SHFAs and thirty-four LHCAs for counseling in conjunction with HUD's Homeownership Voucher Program; and $394,000 awarded to three intermediaries, one SHFA and three local organizations for provision of counseling services to families and individuals living in the Colonias, unincorporated communities in the southwest border region of the United States; and $3,000,000 awarded to the American Association of Retired Persons (AARP) to provide housing counseling services related to the Home Equity Conversion Mortgage (HECM) Program.

Additionally, HUD awarded a noncompetitive grant in the amount of $800,000 to the National Foundation for Credit Counseling (NFCC) to provide counseling services to senior citizens that are eligible for HECM counseling.

The Catalog of Federal Domestic Assistance number for the Housing Counseling Program is 14.169.

Dated: March 3, 2006.
Brian D. Montgomery,
Assistant Secretary for Housing-Federal Housing Commissioner.

Appendix A—Fiscal Year 2005 Housing Counseling Grants

Intermediary Organizations (18)

Headquarters SF-HUD

AARP Foundation 601 E. Street, NW, Washington, DC 20049, Grant Type: Comprehensive, Amount Awarded: $999,900.

Acorn Housing Corporation, 846 N Broad St, 2nd floor, Philadelphia, PA 19130-2234, Grant Type: Comprehensive, Amount Awarded: $1,197,255.

Catholic Charities USA, 1731 King St, Ste 200, Alexandria, VA 22314-2720, Grant Type: Comprehensive, Amount Awarded: $1,130,770.

Citizens' Housing and Planning Association, Inc., 18 Tremont Street, Suite 401, Boston, MA 02108-, Grant Type: Comprehensive, Amount Awarded: $801,700.

Homefree—USA, 318 Riggs Road NE, Washington, DC 20011-2534, Grant Type: Comprehensive, Amount Awarded: $997,804.

Housing Opportunities, Inc., 303-305 E. 8th Avenue, Homestead, PA 15120-1517, Grant Type: Comprehensive, Amount Awarded: $997,804.

Mission of Peace, Windmill Place, 877 East Fifth Ave., Flint, MI 48503-, Grant Type: Comprehensive, Amount Awarded: $826,729.

Money Management International Inc., 9009 West Loop South, Suite 700, Houston, TX 77096-1719, Grant Type: Comprehensive, Amount Awarded: $718,000.

National Association of Real Estate Brokers—Investment Division, Inc., 1301 85th Ave, Oakland, CA 94621-1605, Grant Type: Comprehensive, Amount Awarded: $931,320.

National Council of La Raza, 1126 16th Street, NW., Washington, DC 20036-, Grant Type: Comprehensive, Amount Awarded: $1,150,000.

National Credit Union Foundation, 601 Pennsylvania Avenue, NW, South Building, Suite 600, Washington, DC 20004-2601, Grant Type: Comprehensive, Amount Awarded: $701,383.

National Foundation for Credit Counseling, Inc., 801 Roeder Road, Suite 900, Silver Spring, MD 20910-3372, Grant Type: Comprehensive, Amount Awarded: $1,443,593.

National Urban League, 120 Wall Street, New York, NY 10005-, Grant Type: Comprehensive, Amount Awarded: $997,804.

Neighborhood Reinvestment Corporation, 1325 G St NW, Suite 800, Washington, DC 20005-3104, Grant Type: Comprehensive, Amount Awarded: $1,370,440.

Rural Community Assistance Corporation, 3120 Freeboard Drive, Suite 201, West Sacramento, CA 95691, Grant Type: Comprehensive, Amount Awarded: $513,364.

Structured Employment Economic Development Co, 915 Broadway, 17th Floor, New York, NY 10010-, Grant Type: Comprehensive, Amount Awarded: $997,804.

The Housing Partnership Network, 160 State Street, 5th Fl, Boston, MA 02109-, Grant Type: Comprehensive, Amount Awarded: $1,663,050.

West Tennessee Legal Services, Incorporated, 210 West Main Street, P.O. Box 2066, Jackson, TN 38302-2066, Grant Type: Comprehensive, Amount Awarded: $826,729.

Local Housing Counseling Agencies (347)

Atlanta (LHCA-COMP)

Access Living of Metropolitan Chicago, 614 Roosevelt Road, Chicago, IL 60607-, Grant Type: Comprehensive, Amount Awarded: $17,107.

Affordable Housing Coalition of Asheville and Buncombe Counties, Inc., 34 Wall Street, Suite 607, Asheville, NC 28801-, Grant Type: Comprehensive, Amount Awarded: $48,436.

Affordable Housing Corporation, 812 South Washington Street, Marion, IN 46953, Grant Type: Comprehensive, Amount Awarded: $40,000.

Alabama Council on Human Relations, Inc., 319 W Glenn Ave, PO Box 409, Auburn, AL 36831-0409, Grant Type: Comprehensive, Amount Awarded: $18,000.

Appalachian Housing Redevelopment Corporation, 800 Avenue B, Rome, GA 30162-, Grant Type: Comprehensive, Amount Awarded: $21,322.

Area Committee to Improve Opportunities Now, Inc., 594 Oconee Street, Athens, GA 30603, Grant Type: Comprehensive, Amount Awarded: $29,823.

Campbellsville Housing and Redevelopment Authority, 400 Ingram Ave, PO Box 597, Campbellsville, KY 42718-1627, Grant Type: Comprehensive, Amount Awarded: $20,138.

Carolina Regional Legal Services Corp, 279 W Evans St, PO Box 479, Florence, SC 29503, Grant Type: Comprehensive, Amount Awarded: $15,000.

CCCS of West FL DBA Allvista Solutions, 14 Palafox Place, PO Box 950, Pensacola, FL 32502, Grant Type: Comprehensive, Amount Awarded: $25,000.

CDBG Operations Corporation, River Park Dr. 3rd Floor, East St Louis, IL 62201-3022, Grant Type: Comprehensive, Amount Awarded: $43,400.

Center for Pan Asian Community Services, Inc, 3760 Park Avenue, Doraville, GA 30340-, Grant Type: Comprehensive, Amount Awarded: $23,500.

Central Florida Community Development Corporation, 847 Orange Avenue, P.O. Box 15065, Daytona Beach, FL 32114-, Grant Type: Comprehensive, Amount Awarded: $21,322.

Central Illinois Debt Management & Credit Education, Inc., AKA CCCS of Central IL, 222 E. North Street, Decatur, IL 62523-, Grant Type: Comprehensive, Amount Awarded: $31,941.

Choanoke Area Development Association, 120 Sessoms Drive, Rich Square, NC 27869, Grant Type: Comprehensive, Amount Awarded: $34,058.

Citizens for Affordable Housing, Terrace 1, 295 Plus Park Blvd., Suite 105, Nashville, TN 37217, Grant Type: Comprehensive, Amount Awarded: $19,215.

City of Albany Georgia, 230 South Jackson St, Ste 315, Albany, GA 31701-, Grant Type: Comprehensive, Amount Awarded: $49,892.

City of Bloomington, 401 N Morton St, P.O. Box 100, zip # 47402, Bloomington, IN 47404-3729, Grant Type: Comprehensive, Amount Awarded: $32,569.

Clinch-Powell Resource Conservation and Development Area, P.O. Box 379, 7995 Rutledge Pike, Rutledge, TN 37861, Grant Type: Comprehensive, Amount Awarded: $17,107.

Cobb Housing, Incorporated, 268 Lawrence St, Suite 100, Marietta, GA 30060, Grant Type: Comprehensive, Amount Awarded: $36,176.

Columbus Housing Initiative, Inc., 18 11th Street, Columbus, GA 31901-, Grant Type: Comprehensive, Amount Awarded: $23,429.

Community Action Agency of Northwest Alabama, Inc., 745 Thompson St, Florence, AL 35630-, Grant Type: Comprehensive, Amount Awarded: $30,000.

Community Action Partnership of N. AL, Inc. 1909 Central Parkway SW., Decatur, AL 35601-, Grant Type: Comprehensive, Amount Awarded: $43,660.

Community Action Partnership, Huntsville/Madison & Limestone Counties, Inc., 3516 Stringfield Rd, PO Box 3975, Huntsville, AL 35810-1758, Grant Type: Comprehensive, Amount Awarded: $17,107.

Community Action Program of Evansville & Vanderburgh County, Inc., 27 Pasco Avenue, Evansville, IN 47713, Grant Type: Comprehensive, Amount Awarded: $30,000.

Community and Economic Development Association of Cook County Inc., 208 S La Salle St, Ste 1900, Chicago, IL 60604-1104, Grant Type: Comprehensive, Amount Awarded: $27,706.

Community Enterprise Investments, Incorporated, 302 North Barcelona St, Pensacola, FL 32502, Grant Type: Comprehensive, Amount Awarded: $25,000.

Community Housing Initiative, Inc, 3033 College Wood Drive, PO Box 410522, FL 32941-0522, Melbourne, FL 32934, Grant Type: Comprehensive, Amount Awarded: $20,413.

Community Investment Corporation of Decatur, Inc, 2121 S. Imboden Court, Decatur, IL 62521-, Grant Type: Comprehensive, Amount Awarded: $21,322.

Community Service Programs of West Alabama, Inc., 601 17th St, Tuscaloosa, AL 35401-4807, Grant Type: Comprehensive, Amount Awarded: $34,058.

Consumer Credit Counseling Service of Forsyth County, Inc., 8064 North Point Boulevard, Suite 204, 206 North Spruce St., Suite 2-B, Winston Salem, NC 27106, Grant Type: Comprehensive, Amount Awarded: $100,000.

Consumer Credit Counseling Service of WNC, Inc., 50 S French Broad Ave, Ste 227, Asheville, NC 28801-3217, Grant Type: Comprehensive, Amount Awarded: $60,000.

Consumer Credit Counseling Service of Central FL and the FL Gulf Coast, 3670 Maguire Boulevard, Suite 103, Orlando, FL 32803, Grant Type: Comprehensive, Amount Awarded: $46,048.

Cooperative Resource Center, Inc, 191 Edgewood Avenue, S.E., Atlanta, GA 30303-, Grant Type: Comprehensive, Amount Awarded: $47,740.

Deerfield Beach Housing Authority, 533 S. Dixie Hwy, Deerfield Beach, FL 33441, Grant Type: Comprehensive, Amount Awarded: $25,000.

DeKalb/Metro Housing Counseling Center, 4151 Memorial Drive, Suite 207B, Decatur, GA 30032, Grant Type: Comprehensive, Amount Awarded: $50,000.

Du Page Homeownership Center, Inc, 1333 N Main St, Wheaton, IL 60187-3579, Grant Type: Comprehensive, Amount Awarded: $29,823.

Durham Regional Financial Center DBA Durham Regional Community Development Group, 315 East Chapel Hill Street, Suite 301, Durham, NC 27701-, Grant Type: Comprehensive, Amount Awarded: $23,429.

East Athens Development Corporation, 410 McKinley Drive, Suite 101, Athens, GA 30601-, Grant Type: Comprehensive, Amount Awarded: $50,825.

Economic Opportunity for Savannah Chatham County Area, Inc., 618 W Anderson St, PO Box 1353, Savannah, GA 31415, Grant Type: Comprehensive, Amount Awarded: $95,578

Elizabeth City State University, 1704 Weeksville Rd., Elizabeth City, NC 27909, Grant Type: Comprehensive, Amount Awarded: $42,325.

Family Counseling Center of Brevard, Inc, 220 Coral Sands Dr, Rockledge, FL 32955-2702, Grant Type: Comprehensive, Amount Awarded: $27,706.

Family Service Center of South Carolina, 1800 Main St, PO Box 7876, Columbia, SC 29201-2433, Grant Type: Comprehensive, Amount Awarded: $21,322.

Family Services Inc, 4925 Lacross St. Ste. 215, North Charleston, SC 29406-, Grant Type: Comprehensive, Amount Awarded: $43,660.

Financial Counselors of America, 3294 Poplar Ave., Suite 304, Memphis, TN 38111, Grant Type: Comprehensive, Amount Awarded: $25,588.

Gainesville-Hall County Neighborhood Revitalization, Inc, 2380 Murphy Blvd, P.O. Box 642, Gainesville, GA 30503-, Grant Type: Comprehensive, Amount Awarded: $40,000.

Goodwill Industries Manasota, Inc., 8490 Lockwood Ridge Road, Sarasota, FL 34243, Grant Type: Comprehensive, Amount Awarded: $48,436.

Greater Ocala Community Development Corporation, 1749 W. Silver Springs Boulevard, P.O. Box 5582 (zip code 34478), Ocala, FL 34475, Grant Type: Comprehensive, Amount Awarded: $19,215.

Greater Southwest Development Corporation, 2601 West 63rd Street, Chicago, IL 60629, Grant Type: Comprehensive, Amount Awarded: $25,588.

Greensboro Housing Coalition, 122 N. Elm Street, Suite 608, Greensboro, NC 27401, Grant Type: Comprehensive, Amount Awarded: $35,344.

Greenville County Human Relations Commission, 301 University Ridge, Suite 1600, Greenville, SC 29601-3660, Grant Type: Comprehensive, Amount Awarded: $34,058.

Gwinnet Housing Resouce Partnership D/B/A the Impact Group, 2825 Breckinridge Blvd., Suite 160, Duluth, GA 30096-, Grant Type: Comprehensive, Amount Awarded: $95,578.

Haven Economic Development Inc., 8612 State Road 84, Davie, FL 33324-, Grant Type: Comprehensive, Amount Awarded: $36,176.

HCP of Illinois, Inc., 28 E. Jackson Blvd, #1109, Chicago, IL 60604-, Grant Type: Comprehensive, Amount Awarded: $31,941.

Highland Family Resource Center, Inc, 1305 N. Weldon Street, P.O. Box 806, Gastonia, NC 28053-, Grant Type: Comprehensive, Amount Awarded: $40,000.

Hoosier Uplands Economic Development Corporaton, 521 W Main St, PO Box 9, Mitchell, IN 47446-1410, Grant Type: Comprehensive, Amount Awarded: $20,000.

Hope of Evansville, Inc, 608 Cherry St, Evansville, IN 47713-, Grant Type: Comprehensive, Amount Awarded: $31,000.

Housing and Economic Leadership Partners, Inc, 485 Huntington Road, Suite 200, Athens, GA 30606-, Grant Type: Comprehensive, Amount Awarded: $34,058.

Housing Authority of Birmingham District, 1826 3rd Ave S, Birmingham, AL 35233-1905, Grant Type: Comprehensive, Amount Awarded: $36,176.

Housing Authority of the City of Anderson, 528 West 11th St, Anderson, IN 46016-1228, Grant Type: Comprehensive, Amount Awarded: $19,215.

Housing Authority of the City of Fort Wayne, Indiana, 2013 S Anthony Blvd, PO Box 13489, Ft. Wayne, IN 46869-3489, Grant Type: Comprehensive, Amount Awarded: $41,271.

Housing Authority of the City of Hammond, 1402 173rd Street, Hammond, IN 46324-2831, Grant Type: Comprehensive, Amount Awarded: $19,215.

Housing Authority of the City of High Point, 500E Russell Avenue, PO Box 1779, High Point, NC 27260-, Grant Type: Comprehensive, Amount Awarded: $50,825.

Housing Authority of the City of Montgomery, 1020 Bell St., Montgomery, AL 36104-3056, Grant Type: Comprehensive, Amount Awarded: $34,058.

Housing Authority of the County of Lake, 33928 North Route 45, Grayslake, IL 60030, Grant Type: Comprehensive, Amount Awarded: $19,215.

Housing Authority, City of Elkhart, 1396 Benham Ave., Elkhart, IN 46516-3341, Grant Type: Comprehensive, Amount Awarded: $15,000.

Housing Education and Economic Development, Inc., 3405 Medgar Evers Blvd., PO Box 11853, Jackson, MS 39213-6360, Grant Type: Comprehensive, Amount Awarded: $43,660.

Housing Opportunities, Inc, 2801 Evans Avenue, Valparaiso, IN 46383-, Grant Type: Comprehensive, Amount Awarded: $20,000.

Housing Opportunity Development Corporation, 1000 Skokie Boulevard, Suite 500, Wilmette, IL 60091-, Grant Type: Comprehensive, Amount Awarded: $17,107.

Indianapolis Urban League, 777 Indiana Ave., Indianapolis, IN 46202-3135, Grant Type: Comprehensive, Amount Awarded: $20,000.

J.C. Vision and Associates, Inc., 135 G East Martin Luther King Dr., Hinesville, GA 31310, Grant Type: Comprehensive, Amount Awarded: $29,823.

Jacksonville Area Legal Aid, Inc., 126 W. Adams Street, Jacksonville, FL 32202-3849, Grant Type: Comprehensive, Amount Awarded: $43,660.

Jefferson County Housing Authority, 3700 Industrial Parkway, Birmingham, AL 35217-, Grant Type: Comprehensive, Amount Awarded: $31,941.

Johnston-Lee-Harnett Community Action, Inc, 1102 Massey Street, PO Drawer 711, Smithfield, NC 27577-0711, Grant Type: Comprehensive, Amount Awarded: $20,000.

Lake County Community Economic Development Dept., 2293 N Main St., Crown Point, IN 46307-1885, Grant Type: Comprehensive, Amount Awarded: $23,429.

Latin American Association, 2750 Buford Highway, Atlanta, GA 30324-, Grant Type: Comprehensive, Amount Awarded: $31,941.

Latin United Community Housing Association, 3541 West North Avenue, Chicago, IL 60647-, Grant Type: Comprehensive, Amount Awarded: $46,048.

Legal Assistance Foundation of Metropolitan Chicago, 111 West Jackson Blvd. Suite 300, Chicago, IL 60604-, Grant Type: Comprehensive, Amount Awarded: $43,660.

Lincoln Hills Development Corporation, 302 Main St., P.O. Box 336, Tell City, IN 47586-0336, Grant Type: Comprehensive, Amount Awarded: $20,000.

Memphis Area Legal Services, Inc., 109 N Main 2nd Fl, Memphis, TN 38103-, Grant Type: Comprehensive, Amount Awarded: $34,058.

Miami Beach Community Development Corp, 945 Pennsylvania Avenue 2nd Floor, Miami Beach, FL 33139-, Grant Type: Comprehensive, Amount Awarded: $34,058.

Mid-Florida Housing Partnership, Inc., 330 North Street, P.O. Box 1345, Daytona Beach, FL 32114-, Grant Type: Comprehensive, Amount Awarded: $31,941.

Middle Georgia Community Action Agency, Inc, 121 Prince Street, PO Box 2286, Warner Robins, GA 31093-1734, Grant Type: Comprehensive, Amount Awarded: $48,436.

Mobile Housing Board, 151 S. Claiborne Street, Mobile, AL 36602, Grant Type: Comprehensive, Amount Awarded: $29,823.

Momentive Consumer Credit Counseling Service, 615 N Alabama Street Suite 134, Indianapolis, IN 46204-1477, Grant Type: Comprehensive, Amount Awarded: $48,436.

Monroe-Union County Community Development Corporation, 349 East Franklin Street, P.O. Box 887, Monroe, NC 28112-, Grant Type: Comprehensive, Amount Awarded: $40,000.

Montgomery Community Action Committee and CDC, Inc., 1066 Adams Avenue, Montgomery, AL 36104, Grant Type: Comprehensive, Amount Awarded: $15,000.

Muncie Home Ownership, 407 S Walnut St., P.O. Box 93, Muncie, IN 47308-, Grant Type: Comprehensive, Amount Awarded: $31,941.

Neighborhood Housing Services of Chicago, 1279 N. Milwaukee, Chicago, IL 60622-5854, Grant Type: Comprehensive, Amount Awarded: $19,215.

Nobel Neighbors, 1345 N. Karlov, Chicago, IL 60651, Grant Type: Comprehensive, Amount Awarded: $23,429.

Northeastern Community Development Corporation, 154 Highway 158 East, PO Box 367, Camden, NC 27921-0367, Grant Type: Comprehensive, Amount Awarded: $95,578.

Northwestern Regional Housing Authority, 869 Highway 105 Ext Ste 10, PO Box 2510, Boone, NC 28607-2510, Grant Type: Comprehensive, Amount Awarded: $29,144.

Ocala Housing Authority, 1629 Northwest 4th Street, Ocala, FL 34475, Grant Type: Comprehensive, Amount Awarded: $40,000.

Opa-Locka Community Development Corporation, 490 Opa-Locka Boulevard, Suite 20, Opa-Locka, FL 33054, Grant Type: Comprehensive, Amount Awarded: $15,000.

Prosperity Unlimited, Inc, 1660 Garnet Street, Kannapolis, NC 28083, Grant Type: Comprehensive, Amount Awarded: $50,000

Purchase Area Housing Corporation, 1002 Medical Dr., PO Box 588, Mayfield, KY 42066-0588, Grant Type: Comprehensive, Amount Awarded: $15,000.

Reach, Inc., 733 Red Mile Rd, Lexington, KY 40504-, Grant Type: Comprehensive, Amount Awarded: $29,823.

River City Community Development Corporation, 501 East Main St, Elizabeth City, NC 27909-, Grant Type: Comprehensive, Amount Awarded: $95,112.

Rogers Park Community Development Corporation, 1530 West Morse Avenue, Chicago, IL 60626-, Grant Type: Comprehensive, Amount Awarded: $23,429.

Sacred Heart Southern Missions Housing Corporation, 9260 McLemore Drive, PO Box 365, Walls, MS 38680-0365, Grant Type: Comprehensive, Amount Awarded: $21,322.

Sandhills Community Action Program, Inc., 103 Saunders St., PO Box 937, Carthage, NC 28327-0937, Grant Type: Comprehensive, Amount Awarded: $46,048.

South Suburban Housing Center, 18220 Harwood Avenue, Suite 1, Homewood, IL 60430-, Grant Type: Comprehensive, Amount Awarded: $40,000.

Southern Indiana Homeownership Inc., 501 Hart Street, P.O. Box 600, Vincennes, IN 47591-, Grant Type: Comprehensive, Amount Awarded: $15,000.

Statesville Housing Authority, 110 West Allison Street, Statesville, NC 28677-, Grant Type: Comprehensive, Amount Awarded: $40,000.

Tallahassee Lenders Consortium, Inc., 833 East Park Avenue, Tallahassee, FL 32301, Grant Type: Comprehensive, Amount Awarded: $27,706.

Tallahassee Urban League, Inc., 923 Old Bainbridge Road, Tallahassee, FL 32303-6042, Grant Type: Comprehensive, Amount Awarded: $41,271.

Tampa Bay Community Development Corporation, 2139 NE Coachman Road, Clearwater, FL 33765-, Grant Type: Comprehensive, Amount Awarded: $25,588.

The Center for Affordable Housing, Inc., 2524 S. Park Drive, Sanford, FL 32773, Grant Type: Comprehensive, Amount Awarded: $31,941.

Trident United Way, 6296 Rivers Avenue, PO Box 63305, North Charleston, SC 29419, Grant Type: Comprehensive, Amount Awarded: $21,322.

Twin Rivers Opportunities, Inc., 318 Craven St., PO Box 1482, New Bern, NC 28563-, Grant Type: Comprehensive, Amount Awarded: $48,436.

Urban League of Louisville, Inc., 1535 West Broadway, Louisville, KY 40203, Grant Type: Comprehensive, Amount Awarded: $19,215.

Vollintine Evergreen Community Association CDC, 1680 Jackson Ave., Memphis, TN 38107-5044, Grant Type: Comprehensive, Amount Awarded: $25,588.

Western Piedmont Council of Governments, 736 4th Street South-West, PO Box 9026, Hickory, NC 28602-, Grant Type: Comprehensive, Amount Awarded: $35,000.

Will County Center for Community Concerns, 304 N. Scott Street, Joliet, IL 60432-, Grant Type: Comprehensive, Amount Awarded: $15,000.

Wilmington Housing Finance and Development, Inc., 310 North Front Street, PO Box 547, Wilimington, NC 28402-, Grant Type: Comprehensive, Amount Awarded: $50,000.

Wilson Community Improvement Association, Inc., 504 E Green St., Wilson, NC 27893-, Grant Type: Comprehensive, Amount Awarded: $29,823.

Woodbine Community Organization, 222 Oriel Ave., Nashville, TN 37210-, Grant Type: Comprehensive, Amount Awarded: $50,825.

Denver (LHCA—COMP)

Adams County Housing Authority, 7190 Colorado Blvd, 6th Fl, Commerce City, CO 80022-1812, Grant Type: Comprehensive, Amount Awarded: $175,000.

Anoka County Community Action Program, Inc., 1201 89th Ave, NE Ste 345, Blaine, MN 55434-3373, Grant Type: Comprehensive, Amount Awarded: $60,000.

Austin Tenants' Council, 1619 E. Cesar Chavez St., Austin, TX 78702-4455, Grant Type: Comprehensive, Amount Awarded: $33,156.

Avenida Guadalupe Association, 1327 Guadalupe St., San Antonio, TX 78207-, Grant Type: Comprehensive, Amount Awarded: $30,000.

Avenue Community Development Corporation, 2505 Washington Ave., Suite 400, Houston, TX 77007-, Grant Type: Comprehensive, Amount Awarded: $30,000.

Boulder County Housing Authority, 3482 North Broadway, Sundquist Bldg., Boulder, CO 80304-, Grant Type: Comprehensive, Amount Awarded: $19,922.

Carver County Housing and Redevelopment Authority, 705 Walnut Street, Chaska, MN 55318-, Grant Type: Comprehensive, Amount Awarded: $126,975.

CDC of Brownsville, 901 East Levee Street, Brownsville, TX 78520-5804, Grant Type: Comprehensive, Amount Awarded: $34,689.

City of Aurora Community Development Division, 9898 E. Colfax Ave., Aurora, CO 80010-, Grant Type: Comprehensive, Amount Awarded: $100,000.

City of Fort Worth Housing Department, 1000 Throckmorton St, Fort Worth, TX 76102, Grant Type: Comprehensive , Amount Awarded: $147,337.

City of San Antonio/Community Action Division, 700 So. Zarzamora, Suite 207, PO Box 839966, San Antonio, TX 78205-, Grant Type: Comprehensive , Amount Awarded: $67,363.

Colorado Housing Assistance Corporation, 670 Santa Fe Drive, Denver, CO 80204-, Grant Type: Comprehensive, Amount Awarded: $15,000.

Colorado Rural Housing Development Corporation, 3621 West 73rd Avenue, Suite C, Westminster, CO 80030-, Grant Type: Comprehensive, Amount Awarded: $61,545.

Community Action Agency of Oklahoma City and Oklahoma/Canadian Counties, Inc., 319 SW 25th Street, Oklahoma City, OK 73109, Grant Type: Comprehensive, Amount Awarded: $75,207.

Community Action for Suburban Hennepin, Incor, 33 10th Ave South, Suite 150, Hopkins, MN 55343-1303, Grant Type: Comprehensive, Amount Awarded: $155,000.

Community Action Project of Tulsa, 717 South Houston, Suite 200, Tulsa, OK 74127-, Grant Type: Comprehensive, Amount Awarded: $49,909.

Community Action Services, 815 South Freedom Blvd., Suite 100, Provo, UT 84601-, Grant Type: Comprehensive, Amount Awarded: $52,500.

Community Action, Incorporated of Rock and Walworth Counties, 2300 Kellogg Ave, Janesville, WI 53546-5921, Grant Type: Comprehensive, Amount Awarded: $20,000.

Community Development Support Association, 2615 E Randolph, Enid, OK 73701-, Grant Type: Comprehensive, Amount Awarded: $30,000.

Consumer Credit Counseling Service of Central Oklahoma, 3230 N. Rockwell Avenue, Bethany, OK 73008 , Grant Type: Comprehensive, Amount Awarded: $29,767.

Consumer Credit Counseling Service, Inc., 1201 W Walnut St, PO Box 843, Salina, KS 67402-0843, Grant Type: Comprehensive, Amount Awarded: $50,000.

Crawford-Sebastian Community Development Coun, 4831 Armour St., PO Box 4069, Fort Smith, AR 72914-, Grant Type: Comprehensive, Amount Awarded: $15,173.

Dakota County Community Development Agency, 1228 Town Centre Drive, Eagan, MN 55123, Grant Type: Comprehensive, Amount Awarded: $37,350.

District 7 Human Resources Development Council, 7 N 31 St, PO Box 2016 Billings, MT 59103-, Grant Type: Comprehensive, Amount Awarded: $50,000.

Economic Opportunity Agency of Washington County, 614 E. Emma, Suite M401, Springdale, AR 72764, Grant Type: Comprehensive, Amount Awarded: $19,922.

Family Housing Advisory Services, Incorporate, 2416 Lake Street, Omaha, NE 68111-, Grant Type: Comprehensive, Amount Awarded: $126,975.

Family Management Credit Counselors, Incorporated, 1409 W 4th St, Waterloo, IA 50702-2907, Grant Type: Comprehensive, Amount Awarded: $40,000.

High Plains Community Development Corporation, 130 E. 2nd Street, Chadron, NE 69337-, Grant Type: Comprehensive, Amount Awarded: $52,659.

Home Opportunities Made Easy, Inc. (Home, Inc.), 1111 Ninth Street, Suite 210, Des Moines, IA 50314, Grant Type: Comprehensive, Amount Awarded: $38,689.

Home-New Mexico, Incorporated, 3900 Osuna NE, Albuquerque, NM 87109-, Grant Type: Comprehensive, Amount Awarded: $15,000.

Housing and Credit Counseling, Incorporated, 1195 SW Buchanan St, Ste 101, Topeka, KS 66604-1183, Grant Type: Comprehensive, Amount Awarded: $180,000.

Housing Authority of the City of Norman, 700 North Berry Road, Norman, OK 73069, Grant Type: Comprehensive, Amount Awarded: $44,091.

Housing Options Provided for the Elderly, 4265 Shaw Blvd, St. Louis, MO 63110-3526, Grant Type: Comprehensive, Amount Awarded: $58,000.

Housing Partners of Tulsa, Incorporated, 415 E. Independence, P.O. Box 6369, Tulsa, OK 74106-, Grant Type: Comprehensive, Amount Awarded: $24,845.

Housing Solutions for the Southwest, 295 Girard St, Durango, CO 81303-, Grant Type: Comprehensive, Amount Awarded: $44,091.

Interfaith of Natrona County, Incorporated, 1514 East 12th Street, #303, Casper, WY 82601-, Grant Type: Comprehensive, Amount Awarded: $35,000.

Iowa Citizens for Community Improvement, 2005 Forest Avenue, Des Moines, IA 50311, Grant Type: Comprehensive, Amount Awarded: $40,000.

KI Bois Community Action Foundation, Incorporated, 301 E Main, P.O. Box 727, Stigler, OK 74462-, Grant Type: Comprehensive, Amount Awarded: $46,680.

Lafayette Consolidated Government Neighborhood Counseling Services, 111 Shirley Picard Dr., Lafayette, LA 70501, Grant Type: Comprehensive, Amount Awarded: $20,000.

Legal Aid of Western Missouri, 1125 Grand Avenue, Suite 1900, Kansas City, MO 64106-, Grant Type: Comprehensive, Amount Awarded: $150,000.

Legal Services of Eastern Missouri, Incorporated, 4232 Forest Park Ave, St. Louis, MO 63108-2811, Grant Type: Comprehensive, Amount Awarded: $34,689.

Lincoln Action Program, Incorporated, 210 O Street, Lincoln, NE 68508-, Grant Type: Comprehensive, Amount Awarded: $55,727.

Mission Waco Community Development Corporation, 1525 Colcord, Waco, TX 76707, Grant Type: Comprehensive, Amount Awarded: $32,671.

Neighbor to Neighbor, 424 Pine Street, Suite 203, Fort Collins, CO 80524-, Grant Type: Comprehensive, Amount Awarded: $45,000.

New Mexico Legal Aid, Inc., 500 Copper NW, Suite 300, PO Box 25486, Albuquerque, NM 87102-, Grant Type: Comprehensive-, Amount Awarded: $44,091.

Northeast Denver Housing Center, 1735 Gaylord St, Denver, CO 80206-1208, Grant Type: Comprehensive, Amount Awarded: $66,000.

Oglala Sioux Tribe Partnership for Housing, I, Old Ambulance Building, P.O. Box 3001, Pine Ridge, SD 57770-, Grant Type: Comprehensive, Amount Awarded: $55,727.

Project Bravo, Incorporated, 4838 Montana Ave, El Paso, TX 79903- Grant Type: Comprehensive, Amount Awarded: $49,909.

Saint James Parish Department of Human Resources, 5153 Canatelle Street, PO Box 87, Convent, LA 70723-0087, Grant Type: Comprehensive, Amount Awarded: $24,845.

Saint Martin, Iberia, Lafayette Community Act, 501 Saint John St, PO Box 3343, Lafayette, LA 70501-5709, Grant Type: Comprehensive, Amount Awarded: $32,000.

Saint Paul Department of Planning and Economic Dev., 25 West 4th Street, Suite 1200, St. Paul, MN 55102-1634, Grant Type: Comprehensive, Amount Awarded: $100,777.

Salt Lake Community Action Program, 764 S 200 W, Salt Lake City, UT 84101-2710, Grant Type: Comprehensive, Amount Awarded: $25,000.

South Arkansas Community Development, 406 Clay Street, Arkadelphia, AR 71923- Grant Type: Comprehensive, Amount Awarded: $45,000.

Southeastern North Dakota Community Action AG, 3233 S University Dr, Fargo, ND 58104-6221, Grant Type: Comprehensive, Amount Awarded: $15,000.

Southern Minnesota Regional Legal Services, I, 166 E 4th St., Suite 200, St. Paul, MN 55101, Grant Type: Comprehensive, Amount Awarded: $100,000.

Tenant Resource Center, 1202 Williamson St., Suite A, Madison, WI 53703- Grant Type: Comprehensive, Amount Awarded: $55,727.

Texas Riogrande Legal Aid, Inc., 300 S. Texas Blvd., Weslaco, TX 78596, Grant Type: Comprehensive, Amount Awarded: $137,155.

The Housing Authority of the City of Shawnee, 601 West 7th Street, P.O. Box 3427, Shawnee, OK 74802-3427, Grant Type: Comprehensive, Amount Awarded: $19,922.

United Community Center, 1028 S. 9th Street, Milwaukee, WI 53204, Grant Type: Comprehensive, Amount Awarded: $60,000.

Universal Housing Development Corporation, 301 E 3rd St, PO Box 846, Russellville, AR 72811-5109, Grant Type: Comprehensive, Amount Awarded: $61,545.

Volunteers of America of North Louisiana, 360 Jordan Street, Shreveport, LA 71101, Grant Type: Comprehensive, Amount Awarded: $19,922.

West Central Missouri Rural Community Action, 106 W 4th St., P.O. Box 125, Appleton City, MO 64724-, Grant Type: Comprehensive, Amount Awarded: $24,845.

West Central Wisconsin Community Action Agency, Inc., 525 Second Street, P.O. Box 308, Glenwood City, WI 54751, Grant Type: Comprehensive, Amount Awarded: $43,363.

Women's Opportunity Resource Development, Inc., 127 N Higgins Ave, Room 307, Missoula, MT 59802-4457, Grant Type: Comprehensive, Amount Awarded: $61,545.

Your Community Connection, 2261 Adams Ave., Ogden, UT 84401-1510, Grant Type: Comprehensive, Amount Awarded: $18,000.

Youth Education and Health in Soulard, 1919 South Broadway, St. Louis, MO 63104-, Grant Type: Comprehensive, Amount Awarded: $18,791.

Philadelphia (LHCA-COMP)

Affordable Homes of Millville Ecumenical, 518 North High Street, Millville, NJ 08332, Grant Type: Comprehensive, Amount Awarded: $27,033.

Albany County Rural Housing Alliance, Incorpo, 24 Martin Road, P.O. Box 407, Voorheesville, NY 12186-, Grant Type: Comprehensive, Amount Awarded: $53,131.

Allegany County Community Opportunities and Rural Development (ACCORD) Corp., 84 Schuyler Street, P.O. Box 573, Belmont, NY 14813-1051, Grant Type: Comprehensive, Amount Awarded: $32,190.

Alliance For Better Housing, Inc., 648 Buena Vista Drive, Kennett Square, PA 19348, Grant Type: Comprehensive, Amount Awarded: $15,000.

Anne Arundel County Economic Opportunity Comm, 251 West St., Annapolis, MD 21401-3427, Grant Type: Comprehensive, Amount Awarded: $35,855.

Arundel Community Development Service Inc., 2666 Riva Road, Suite 210, Annapolis, MD 21401-, Grant Type: Comprehensive, Amount Awarded: $53,131.

Asian Americans For Equality, 111 Division St., New York, NY 10002, Grant Type: Comprehensive, Amount Awarded: $27,033.

Belmont Shelter Corporation, 1195 Main Street, Buffalo, NY 14209-2196, Grant Type: Comprehensive, Amount Awarded: $27,033.

Berks Community Action Program Budget Counsel, 247 N. 5th St., Reading, PA 19601-, Grant Type: Comprehensive, Amount Awarded: $27,033.

Berkshire County Regional Housing Authority-H, 150 North Street, Suite 28, Pittsfield, MA 01201-, Grant Type: Comprehensive, Amount Awarded: $34,000.

Better Neighborhoods, Incorporated, 986 Albany St., Schenectady, NY 12307-, Grant Type: Comprehensive, Amount Awarded: $44,403.

Bishop Sheen Ecumenical Housing Foundation, 935 East Ave., Suite 300, Rochester, NY 14607-2216, Grant Type: Comprehensive, Amount Awarded: $32,190.

Blair County Community Action Agency, 2100 Sixth Avenue, Altoona, PA 16602-, Grant Type: Comprehensive, Amount Awarded: $25,314.

Bucks County Housing Group, 2324 Second Street Pike, Suite 17, Wrightstown, PA 18940-, Grant Type: Comprehensive, Amount Awarded: $18,438.

Burlington County Community Action Program, 718 Rt. 130 S., Burlington, NJ 08016-, Grant Type: Comprehensive, Amount Awarded: $20,157.

Center For Family Services, Incorporated, 213 W. Center Street, Meadville, PA 16335-3406, Grant Type: Comprehensive, Amount Awarded: $16,719.

Central Vermont Community Action Council, Inc., 195 U.S. Route 302—Berlin Barre, VT 05641-, Grant Type: Comprehensive, Amount Awarded: $39,331.

Chautauqua Opportunities, Incorporated, 17 W Courtney St., Dunkirk, NY 14048-2754, Grant Type: Comprehensive, Amount Awarded: $55,249.

Chester Community Improvement Project, 412 Avenue of the States, P.O. BOX 541, Chester, PA 19013-0541, Grant Type: Comprehensive, Amount Awarded: $27,033.

Children's & Family Service A/K/A Family Service Agency, 535 Marmion Avenue, Youngstown, OH 44502-2323, Grant Type: Comprehensive, Amount Awarded: $23,036.

Coastal Enterprises, Incorporated, 41 Water Street, P.O. Box 268, Wiscasset, ME 04578-0268, Grant Type: Comprehensive, Amount Awarded: $33,260.

Commission on Economic Opportunity of Luzerne, 165 Amber Lane, P.O. Box 1127, Wilkes Barre, PA 18703-1127, Grant Type: Comprehensive, Amount Awarded: $18,438.

Community Action Commission of Belmont County, 100 W. Main Street, Suite 209, Saint Clairsville, OH 43950-, Grant Type: Comprehensive, Amount Awarded: $23,595.

Community Action Committee of Lehigh Valley, 1337 E. 5th Street, Bethlehem, PA 18015-, Grant Type: Comprehensive, Amount Awarded: $30,000.

Community Action Program for Madison County, 3 East Main Street, P.O. Box 249, Morrisville, NY 13408-, Grant Type: Comprehensive, Amount Awarded: $30,575.

Community Action Southwest, 150 W. Beau Street, Suite 304, Washington, PA 15301-, Grant Type: Comprehensive, Amount Awarded: $15,000.

Community Assistance Network, 7701 Dunmanway, Dundalk, MD 21222-5437, Grant Type: Comprehensive, Amount Awarded: $34,117.

Community Service Network, Incorporated, 52 Broadway, Stoneham, MA 02180-1003, Grant Type: Comprehensive, Amount Awarded: $27,033.

Concord Area Trust for Community (CATCH), 79 South State Street, Concord, NH 03301-, Grant Type: Comprehensive, Amount Awarded: $53,131.

Consumer Credit and Budget Counseling, 299 S. Shore Road, Route 9 South Marmora, NJ 08223-0866, Grant Type: Comprehensive, Amount Awarded: $16,719.

Cortland Housing Assistance Council, Incorpor, 159 Main St., Cortland, NY 13045-, Grant Type: Comprehensive, Amount Awarded: $16,000.

Cypress Hills Local Development Corporation, 625 Jamaica Avenue, Brooklyn, NY 11208-1203, Grant Type: Comprehensive, Amount Awarded: $37,593.

Detroit Non-Profit Housing Corporation, 8904 Woodward Ave., Suite 279, Considine Center, Detroit, MI 48202-, Grant Type: Comprehensive, Amount Awarded: $32,190.

Fair Housing Contact Service, 333 South Main Street, Ste. 300, Akron, OH 44308, Grant Type: Comprehensive, Amount Awarded: $27,037.

Fair Housing Council of Northern New Jersey, 131 Main St., Suite 140, Hackensack, NJ 07601-7140, Grant Type: Comprehensive, Amount Awarded: $20,157.

Fair Housing Resource Center, 54 South State Street, Suite 303, Painesville, OH 44077-, Grant Type: Comprehensive, Amount Awarded: $25,314.

Family and Children's Association, 336 Fulton Ave., Hempstead, NY 11550-3907, Grant Type: Comprehensive, Amount Awarded: $37,593.

Family Service Credit Counseling, 51 11th St., Wheeling, WV 26003-2937, Grant Type: Comprehensive, Amount Awarded: $23,595.

Friends of the North Country, 1 Mill Street, P.O. Box 446, Keeseville, NY 12944-, Grant Type: Comprehensive, Amount Awarded: $32,190.

Garden State Consumer Credit Counseling, Inc./Novadebt, 225 Willowbrook Road, Freehold, NJ 07728-, Grant Type: Comprehensive, Amount Awarded: $16,719.

Garfield Jubilee Association, Incorporated, 5138 Penn Ave., Pittsburgh, PA 15224-1616, Grant Type: Comprehensive, Amount Awarded: $32,190.

Garrett County Community Action Committee, Inc., 104 E Center St., Oakland, MD 21550-1328, Grant Type: Comprehensive, Amount Awarded: $53,131.

Grand Rapids Urban League, 745 Eastern Ave., SE., Grand Rapids, MI 49503-5544, Grant Type: Comprehensive, Amount Awarded: $20,157.

Greater Boston Legal Services, 197 Friend Street, Boston, MA 02114-1802, Grant Type: Comprehensive, Amount Awarded: $40,000.

Greater East Side Community Association, 2804 N.. Franklin Avenue, Flint, MI 48506-, Grant Type: Comprehensive, Amount Awarded: $37,593.

Harford County Housing Agency, 15 South Main Street, Suite 106, Bel Air, MD 21014, Grant Type: Comprehensive, Amount Awarded: $25,314.

Hill Development Corporation of New Haven, 649 Howard Avenue, New Haven, CT 06519-1506, Grant Type: Comprehensive, Amount Awarded: $20,157.

Home Partnership, Incorporated, Rumsey Towers Building, Suite 301, 626 Towne Center Drive, Joppatowne, MD 21085, Grant Type: Comprehensive, Amount Awarded: $27,033.

Home Repair Services of Kent County, Inc., 1100 S. Division Avenue, Grand Rapids, MI 49507-, Grant Type: Comprehensive, Amount Awarded: $30,471.

Housing Authority of the County of Butler, 114 Woody Drive, Butler, PA 16001-, Grant Type: Comprehensive, Amount Awarded: $21,876.

Housing Council in Monroe County, Incorporate, 183 Main St., E, Suite 1100, Rochester, NY 14604-, Grant Type: Comprehensive, Amount Awarded: $53,131.

Housing Council of York, 35 South Duke Street, York, PA 17401-1106, Grant Type: Comprehensive, Amount Awarded: $25,314.

Housing Counseling Services, Incorporated, 2430 Ontario Rd NW, Washington, DC 20009-2705, Grant Type: Comprehensive, Amount Awarded: $100,711.

Housing Initiatives Partnership, Incorporated, 6525 Belcrest Road, Suite 555, Hyattsville, MD 20782, Grant Type: Comprehensive, Amount Awarded: $15,000.

Housing Partnership for Morris County, 2 E. Blackwell Street, Suite 12, Dover, NJ 07801-, Grant Type: Comprehensive, Amount Awarded: $34,117.

Inner City Christian Federation, 816 Madison Ave., SE, Grand Rapids, MI 49507-, Grant Type: Comprehensive, Amount Awarded: $51,013.

Isles, Incorporated, 10 Wood St., Trenton, NJ 08618-3921, Grant Type: Comprehensive, Amount Awarded: $18,438.

Kanawha Institute for Social Research & Action, Inc., 124 Marshall Avenue, Dunbar, WV 25064-, Grant Type: Comprehensive, Amount Awarded: $28,752.

Keuka Housing Council, 160 Main Street, Penn Yan, NY 14527-, Grant Type: Comprehensive, Amount Awarded: $22,777.

Laconia Area Community Land Trust, P.O. Box 6104, Laconia, NH 03247-, Grant Type: Comprehensive, Amount Awarded: $27,033.

Lansing Affordable Homes, Inc., 6546 Mercantile Way, 9-S, Lansing, MI 48911, Grant Type: Comprehensive, Amount Awarded: $20,157.

Lighthouse Community Development, 46156 Woodward Avenue, Pontiac, MI 48328-, Grant Type: Comprehensive, Amount Awarded: $65,000.

Long Island Housing Services, Incorporated, 3900 Veterans Memorial Highway, Suite 251, Bohemia, NY 11716-1027, Grant Type: Comprehensive, Amount Awarded: $35,855.

Lutheran Housing Corporation, 13944 Euclid Ave Ste 208, East Cleveland, OH 44112-3832, Grant Type: Comprehensive, Amount Awarded: $34,117.

Lynchburg Community Action Group, Incorporate, 926 Commerce Street, Lynchburg, VA 24504-, Grant Type: Comprehensive, Amount Awarded: $23,000.

Margert Community Corporation, 325 Beach 37th Street, Far Rockaway, NY 11691-4103, Grant Type: Comprehensive, Amount Awarded: $27,033.

Marshall Heights Community Development Organization, 3939 Benning Road, NE., Washington, DC 20019-2662, Grant Type: Comprehensive, Amount Awarded: $15,000.

Maryland Rural Development Corporation, 101 Cedar Ave, P.O. Box 739, Greensboro, MD 21639-0739, Grant Type: Comprehensive, Amount Awarded: $16,719.

Massachusettes Alliance of Portuguese Speakers, 1046 Cambridge Street, Cambridge, MA 02139-1407, Grant Type: Comprehensive, Amount Awarded: $15,000.

Media Fellowship House, 302 S. Jackson, Media, PA 19063, Grant Type: Comprehensive, Amount Awarded: $28,752.

Metro-Interfaith Services, Incorporated, 21 New St., Binghamton, NY 13903-, Grant Type: Comprehensive, Amount Awarded: $20,000.

Michigan State University Extension Services, 240 Agricultural Hall, East Lansing, MI 48224-, Grant Type: Comprehensive, Amount Awarded: $32,190.

Mid-Ohio Regional Planning Commission, 285 E Main St, Columbus, OH 43215-5272, Grant Type: Comprehensive, Amount Awarded: $25,000.

Monmouth County Board of Chosen Freeholders/Monmouth County Division of Social Services, P.O. Box 3000, Freehold, NJ 07728-, Grant Type: Comprehensive, Amount Awarded: $30,471.

Monmouth Housing Alliance, 59 Broad Street, Eatontown, NJ 07724, Grant Type: Comprehensive, Amount Awarded: $25,314.

Mt. Airy, U.S.A., 6703 Germantown Ave—Suite 200, Philadelphia, PA 19119-, Grant Type: Comprehensive, Amount Awarded: $15,000.

National Council on Agricultural Life and Lab, 363 Saulsbury Road, Dover, DE 19904-2722, Grant Type: Comprehensive, Amount Awarded: $27,033.

NCCS Center for Nonprofit Housing, 6308 S. Warner, P.O. Box 149, Fremont, MI 49412, Grant Type: Comprehensive, Amount Awarded: $27,033.

Near Northeast Community Improvement Corporation, 1326 Florida Ave NE., Washington, DC 20002-7108, Grant Type: Comprehensive, Amount Awarded: $34,853.

Neighborhood Housing Services of New Britain, Inc., 223 Broad St., New Britain, CT 06053-4107, Grant Type: Comprehensive, Amount Awarded: $20,157.

Neighborhood Housing Services of New York City (NHS of NYC), 307 West 36th St. 12 floor, New York, NY 10018-6495, Grant Type: Comprehensive, Amount Awarded: $20,157.

Neighbors Helping Neighbors, Inc., 443 39th Street, Suite 202, Brooklyn, NY 11232-, Grant Type: Comprehensive, Amount Awarded: $90,000.

New Jersey Citizen Action, 400 Main Street, Hackensack, NJ 07601-5903, Grant Type: Comprehensive, Amount Awarded: $51,013.

Newport News Office of Human Affairs, 2410 Wickham Avenue, P.O. Box 37, Newport News, VA 23607-, Grant Type: Comprehensive, Amount Awarded: $22,324.

Northfield Community Local Development Corporation, 160 Heberton Ave., Staten Island, NY 10302, Grant Type: Comprehsive, Amount Awarded: $28,752.

Northwest Michigan Human Services Agency, Inc, 3963 Three Mile Road, Traverse City, MI 49686-9164, Grant Type: Comprehensive, Amount Awarded: $51,013.

Oakland County Housing Counseling, 250 Elizabeth Lake Road, Suite 1900, Pontiac, MI 48341-0414, Grant Type: Comprehensive, Amount Awarded: $46,000.

Ocean Community Economic Action Now, Inc. (O.C.E.A.N.), 22 Hyers, PO Box 1029, 40 Washington Street, Toms River, NJ 08754, Grant Type: Comprehensive, Amount Awarded: $15,000.

Opportunities for Chenango, Incorporated, 44 W Main St., PO Box 470, Norwich, NY 13815-1613, Grant Type: Comprehensive, Amount Awarded: $28,752.

Oswego Housing Development Council, Incorporated, 2971 County Rte 26, PO Box 147, Parish, NY 13131-, Grant Type: Comprehensive, Amount Awarded: $30,000.

Paterson Housing Authority, 60 Van Houten Street, PO Box H, Paterson, NJ 07509, Grant Type: Comprehensive, Amount Awarded: $18,438.

People Incorporated of Southwest Virginia, 1173 W Main St., Abingdon, VA 24210-2428, Grant Type: Comprehensive, Amount Awarded: $37,593.

Phoenix Housing & Counseling Non-Profit, Incorporated, 1640 Porter St., Detroit, MI 48216-1936, Grant Type: Comprehensive, Amount Awarded: $15,000.

Piedmont Housing Alliance, 2000 Holiday Drive—Suite 200, Charlottesville, VA 22901-, Grant Type: Comprehensive, Amount Awarded: $32,190.

Pine Tree Legal Services, Incorporated, 88 Federal St., PO Box 547, Portland, ME 04112-, Grant Type: Comprehensive, Amount Awarded: $48,894.

Plymouth Redevelopment Authority, 11 Lincoln Street, Plymouth, MA 02360-, Grant Type: Comprehensive, Amount Awarded: $35,855.

Pro-Home Incorporated, PO Box 2793, Taunton, MA 02780-, Grant Type: Comprehensive, Amount Awarded: $25,314.

Putnam County Housing Corporation, 11 Seminary Hill Road, Carmel, NY 10512-, Grant Type: Comprehensive, Amount Awarded: $28,752.

Quincy Community Action Programs, Incorporated, 1509 Hancock St., Quincy, MA 02169-5200, Grant Type: Comprehensive, Amount Awarded: $28,752.

Rockland Housing Action Coalition, 95 New Clarkstown Road, Nanuet, NY 10954, Grant Type: Comprehensive, Amount Awarded: $32,190.

Rural Ulster Preservation Company, 289 Fair St., Kingston, NY 12401-, Grant Type: Comprehensive, Amount Awarded: $36,582.

Schulykill Community Action, 206 North Second Street, Pottsville, PA 17901, Grant Type: Comprehensive, Amount Awarded: $37,000.

Somerset County Coalition on Affordable Housing, Inc., 600 First Avenue, Suite 3, Raritan, NJ 08869-, Grant Type: Comprehensive, Amount Awarded: $41,069.

Southern Hills Preservation Corporation, 12 Clinton Street, P.O. Box 661, Tully, NY 13159, Grant Type: Comprehensive, Amount Awarded: $22,350.

Southwest Michigan Community Action Agency, 185 E. Main Street, Suite 200, Benton Harbor, MI 49022-, Grant Type: Comprehensive, Amount Awarded: $21,876.

Southwestern Pennyslvania Legal Services Inc., 10 West Cherry Avenue, Central Office, Washington, PA 15301, Grant Type: Comprehensive, Amount Awarded: $39,331.

Springfield Partners for Community Action, 619 State Street, Springfield, MA 01109-4114, Grant Type: Comprehensive, Amount Awarded: $25,314.

St. James Community Development Corporation, 402 Broad Street, Newark, NJ 07104-, Grant Type: Comprehensive, Amount Awarded: $16,719.

Stark Metropolitan Housing Authority, 400 E. Tuscarawas Street, Canton, OH 44702-, Grant Type: Comprehensive, Amount Awarded: $15,000.

Strycker's Bay Neighborhood Council, Incorporated, 61 West 87th Street, Lower Level, New York, NY 10024-, Grant Type: Comprehensive, Amount Awarded: $23,595.

Tabor Community Services, 439 E King St., Lancaster, PA 17608-1676, Grant Type: Comprehensive, Amount Awarded: $15,000.

Telamon Corporation 111 Henry St, PO Box 500, Gretna, VA 24557-0500, Grant Type: Comprehensive, Amount Awarded: $21,876.

The Way Home, 214 Spruce Street, Manchester, NH 03103, Grant Type: Comprehensive, Amount Awarded: $48,894.

Total Action Against Poverty in Roanoke Valley, 145 Campbell Ave. Suite 700, PO Box 11683, Roanoke, VA 24011, Grant Type: Comprehensive, Amount Awarded: $35,000.

Trehab Center Inc., 10 Public Avenue, P.O. Box 366, Montrose, PA 18801-0366, Grant Type: Comprehensive, Amount Awarded: $15,000.

Tri-County Housing Council, 143 Hibbard Road P.O. Box 451, Big Flats, NY 14814, Grant Type: Comprehensive, Amount Awarded: $28,752.

Troy Rehabilitation and Improvement Program, 415 River Street, Ste. 3, Troy, NY 12180, Main Office, Troy, NY 12180, Grant Type: Comprehensive, Amount Awarded: $39,331.

United Neighborhood Centers of Lackawanna COU, 425 Alder Street, Scranton, PA 18505, Grant Type: Comprehensive, Amount Awarded: $39,331.

University Legal Services, 220 I St NE Ste 130, Washington, DC 20002-4389, Grant Type: Comprehensive, Amount Awarded: $18,438.

Urban League of Rhode Island, 246 Prairie Ave, Providence, RI 02905-2333, Grant Type: Comprehensive, Amount Awarded: $35,696.

Virginia Cooperative Extension—Prince Willi, 8033 Ashton Ave Ste 105, Manassas, VA 20109-8202, Grant Type: Comprehensive, Amount Awarded: $28,752.

Washington County Community Action Council, 101 Summit Ave., Hagerstown, MD 21740, Grant Type: Comprehensive, Amount Awarded: $32,190.

Westchester Residential Opportunities, Incorporated, 470 Mamaroneck Ave, Suite 410, White Plains, NY 10605-1830, Grant Type: Comprehensive, Amount Awarded: $68,165.

Western Catskills Community Revitalization Council, Inc., 125 Main Street, Box A, Stamford, NY 12167, Grant Type: Comprehensive, Amount Awarded: $21,876.

WSOS Community Action Commission, Inc., 109 S. Front Street, P.O. Box 590, Fremont, OH 43420-, Grant Type: Comprehensive, Amount Awarded: $37,593.

YWCA of New Castle County, 233 King St, Wilmington, DE 19801-2521, Grant Type: Comprehensive, Amount Awarded: $45,000.

Santa Ana (LHCA—COMP).

Access Incorporated, 3630 Aviation Way, PO Box 4666, Medford, OR 97501, Grant Type: Comprehensive, Amount Awarded: $75,000.

Administration of Resources and Choices, P.O. Box 86802, Tucson, AZ 85754, Grant Type: Comprehensive, Amount Awarded: $50,000.

Anaheim Housing Authority—Anaheim Home Coun, 201 S. Anaheim Blvd. Ste 203, Anaheim, CA 92805, Grant Type: Comprehensive, Amount Awarded: $35,040.

Asian Incorporated, 1670 Pine Street, San Francisco, CA 94109, Grant Type: Comprehensive, Amount Awarded: $40,000.

Bydesign Financial Solutions, DBA CCCS of Los Angeles, 5628 E. Slauson Ave., Los Angeles, CA 90040-2922, Grant Type: Comprehensive, Amount Awarded: $85,416.

CCCS of San Francisco, 150 Post Street 5th Floor, San Francisco, CA 94108, Grant Type: Comprehensive, Amount Awarded: $133,830.

City of Vacaville Office of Housing and Redev, 40 Eldridge Ave. Suite 2, Vacaville, CA 95688-6800, Grant Type: Comprehensive, Amount Awarded: $28,360.

Community Action Partnership, 124 New Sixth Street, Lewiston, ID 83501, Grant Type: Comprehensive, Amount Awarded: $80,000.

Community Housing and Credit Counseling Cente, 1001 Willow Street, Chico, CA 95928, Grant Type: Comprehensive, Amount Awarded: $50,000.

Community Housing Resource Center, 3801-A Main Street, Vancouver, WA 98663-2241, Grant Type: Comprehensive, Amount Awarded: $57,250.

Consumer Counseling Northwest (CCNW), 3560 Bridgeport Way West, Suite 1-D, University Place, WA 98466, Grant Type: Comprehensive, Amount Awarded: $21,680.

Consumer Credit Counseling Service of Alaska, 208 E 4th Ave, Anchorage, AK 99501-2508, Grant Type: Comprehensive, Amount Awarded: $21,680.

Consumer Credit Counseling Service of Kern and Tulare Counties, 5300 Lennox Ave Ste 200, Bakersfield, CA 93309-1662, Grant Type: Comprehensive, Amount Awarded: $35,040.

Consumer Credit Counseling Service of Orange County, 1920 Old Tustin Ave, PO Box 11330, Santa Ana, CA 92711-1330, Grant Type: Comprehensive, Amount Awarded: $174,900.

Consumer Credit Counseling Service of Southern Nevada, 2650 S. Jones Blvd, Las Vegas, NV 89146, Grant Type: Comprehensive, Amount Awarded: $175,000.

East LA Community Corporation (ELACC), 530 South Boyle Avenue, Los Angeles, CA 90033, Grant Type: Comprehensive, Amount Awarded: $28,360.

Eden Council for Hope and Opportunity (ECHO), 770 A St, Hayward, CA 94541-3956, Grant Type: Comprehensive, Amount Awarded: $41,720.

Family Housing Resources, 1700 East Fort Lowell Road, Suite 101, Tucson, AZ 85719, Grant Type: Comprehensive, Amount Awarded: $57,250.

Fremont Public Association, 1501 North 45th Street, Seattle, WA 98103-6708, Grant Type: Comprehensive, Amount Awarded: $120,000.

Housing Authority of the City of Fresno, 1331 Fulton Mall, P O. Box 11985, Fresno, CA 93776, Grant Type: Comprehensive, Amount Awarded: $117,986.

Housing Authority of the County of Santa Cruz, 2931 Mission St., Santa Cruz, CA 95060, Grant Type: Comprehensive, Amount Awarded: $41,094.

Human Rights/Fair Housing Commission, 1112 I Street, Suite 250, Sacramento, CA 95814, Grant Type: Comprehensive, Amount Awarded: $57,250.

Inland Fair Housing Mediation Board, 60 E 9th St, Upland, CA 91786, Grant Type: Comprehensive, Amount Awarded: $50,208.

Kitsap County Consolidated Housing Authority, 9307 Bayshore Drive NW, Silverdale, WA 98383-9113, Grant Type: Comprehensive, Amount Awarded: $21,680.

Labor's Community Service Agency, 5818 N 7th St Ste 100, Phoenix, AZ 85014-5810, Grant Type: Comprehensive, Amount Awarded: $56,793.

Lao Family Community Development, INC., 1551-23rd Avenue, Oakland, CA 94606, Grant Type: Comprehensive, Amount Awarded: $78,375.

Mission Economic Development Association, 3505 20th St, San Francisco, CA 94110, Grant Type: Comprehensive, Amount Awarded: $35,040.

Neighborhood House Association, 841 S. 41st Street, San Diego, CA 92113, Grant Type: Comprehensive, Amount Awarded: $102,142.

Open Door Counseling Center, 34420 SW Tualatin Valley Hwy, Hillsboro, or 97123-5470, Grant Type: Comprehensive, Amount Awarded: $21,680.

Operation Hope, Inc., 707 Wilshire Blvd., Suite 3030, Los Angeles, CA 90017, Grant Type: Comprehensive, Amount Awarded: $15,000.

Pierce County, Department of Community Service, 3602 Pacific Avenue Suite 200, Tacoma, WA 98418-7920, Grant Type: Comprehensive, Amount Awarded: $40,000.

Project Sentinel, 430 Sherman Avenue, Suite 308, Palo Alto, CA 95306, Grant Type: Comprehensive, Amount Awarded: $118,765.

Sacramento Neighborhood Housing Services, Inc., 3447 Fifth Ave, PO Box 5420, Sacramento, CA 95817, Grant Type: Comprehensive, Amount Awarded: $65,000.

San Diego Home Loan Counseling and Education Center, 3180 University Avenue, Suite 430, San Diego, CA 92104, Grant Type: Comprehensive, Amount Awarded: $21,680.

Spokane Neighborhood Action Programs, 2116 East First Avenue, Spokane, WA 99202-3937, Grant Type: Comprehensive, Amount Awarded: $85,416.

Springboard Non Profit Consumer Credit Management, 4351 Latham Street, Riverside, CA 92501, Grant Type: Comprehensive, Amount Awarded: $180,000.

Umpqua Community Action Network, 2448 W Harvard Blvd, Roseburg, or 97470, Grant Type: Comprehensive, Amount Awarded: $21,680.

Washoe County Senior Law Project, 1155 E Ninth St, Reno, NV 89512, Grant Type: Comprehensive, Amount Awarded: $38,000.

Women's Development Center, 953 E Sahara Ave, Suite 201, Las Vegas, NV 89104-3016, Grant Type: Comprehensive, Amount Awarded: $57,250.

State Housing Finance Agencies (16)

Atlanta (SHFA—COMP)

Georgia Housing and Finance Authority, 60 Executive Park South, NE, Atlanta, GA 30329-2231, Grant Type: Comprehensive, Amount Awarded: $184,000.

Kentucky Housing Corporation, 1231 Louisville Road, Frankfort, KY 40601- Grant Type: Comprehensive, Amount Awarded: $265,583.

Mississippi Home Corporation, 735 Riverside Drive, PO Box 23369, Jackson, MS 39225-3369, Grant Type: Comprehensive, Amount Awarded: $124,217.

Denver (SHFA—COMP)

Iowa Finance Authority, 100 E. Grand Ave., Suite 250, Des Moines, IA 50309, Grant Type: Comprehensive, Amount Awarded: $95,000.

Montana Board of Housing, Box 200528, Helena, MT 59620, Grant Type: Comprehensive, Amount Awarded: $149,138.

New Mexico Mortgage Finance Authority, 344 Fourth Street, SW, P.O. Box 2047, Albuquerque, NM 87102, Grant Type: Comprehensive, Amount Awarded: $100,135.

North Dakota Housing Finance Agency, 1500 East Capitol Avenue, P.O. Box 1535, Bismarck, ND 58502-1535, Grant Type: Comprehensive, Amount Awarded: $112,669.

South Dakota Housing Development Authority, 221 South Central, P O. Box 1237, Pierre, SD 57501-1237, Grant Type: Comprehensive, Amount Awarded: $93,868.

Philadelphia (SHFA—COMP)

Maine State Housing Authority, 353 Water Street, Augusta, ME 04330, Grant Type: Comprehensive, Amount Awarded: $73,359.

Michigan State Housing Development Authority, 735 E. Michigan Avenue, P.O. Box 30044, Lansing, MI 48909, Grant Type: Comprehensive, Amount Awarded: $93,381.

New Hampshire Housing Finance Authority, 32 Constitution Drive, Bedford, NH 03110, Grant Type: Comprehensive, Amount Awarded: $56,674.

Pennsylvania Housing Finance Agency, 211 North Front Street, Harrisburg, PA 17101-1406, Grant Type: Comprehensive, Amount Awarded: $110,066.

Rhode Island Housing and Mortgage Finance Corporation, 44 Washington St, Providence, RI 02903-1721, Grant Type: Comprehensive, Amount Awarded: $96,718.

Virginia Housing Development Authority, 601 S. Belvidere Street, Richmond, VA 23220, Grant Type: Comprehensive, Amount Awarded: $113,402.

Santa Ana (SHFA—COMP)

Idaho Housing and Finance Association, 565 West Myrtle, P.O. Box 7899, Boise, ID 83702, Grant Type: Comprehensive, Amount Awarded: $156,475.

Washington State Housing Finance Commission, 1000 2nd Avenue, Suite 2700, Seattle, WA 98104-1046, Grant Type: Comprehensive, Amount Awarded: $208,325.

Colonias (7)

Denver (LHCA—COL)

CDC OF Brownsville, 901 East Levee Street, Brownsville, TX 78520-5804, Grant Type: Colonias, Amount Awarded: $40,000.

New Mexico Legal Aid, Inc., 500 Copper NW, Suite 300, PO Box 25486, Albuquerque, NM 87102, Grant Type: Colonias, Amount Awarded: $40,309.

Project Bravo, Incorporated,

4838 Montana Ave, El Paso, TX 79903, Grant Type: Colonias, Amount Awarded: $30,409.

Denver (SHFA—COL)

New Mexico Mortgage Finance Authority, 344 Fourth Street, SW,

P.O. Box 2047, Albuquerque, NM 87102, Grant Type: Colonias, Amount Awarded: $40,000.

Intermediaries (COL)

Acorn Housing Corporation, 846 N Broad St., 2nd Floor, Philadelphia, PA 19130-2234, Grant Type: Colonias, Amount Awarded: $78,354.

National Council of LA Raza, 1126 16th Street, NW, Washington, DC 20036, Grant Type: Colonias, Amount Awarded: $83,834.

National Foundation for Credit Counseling, Inc., 801 Roeder Road, Suite 900, Silver Spring, MD 20910-3372, Grant Type: Colonias, Amount Awarded: $81,094.

Predatory Lending (52)

Atlanta (LHCA—PL)

Affordable Housing Corporation, 812 South Washington Street, Marion, IN 46953, Grant Type: Predatory Lending, Amount Awarded: $8,000.

Consumer Credit Counseling Service of Forsyth County, Inc., 8064 North Point Boulevard, Suite 204, 206 North Spruce St. Suite 2-B, Winston Salem, NC 27106, Grant Type: Predatory Lending, Amount Awarded: $40,000.

Consumer Credit Counseling Service of WNC, Inc., 50 S French Broad Ave Ste 227, Asheville, NC 28801-3217, Grant Type: Predatory Lending, Amount Awarded: $15,000.

Consumer Credit Counseling Service of Central Fl and Fl Gulf Coast, 3670 Maguire Boulevard, Suite 103, Orlando, FL 32803, Grant Type: Predatory Lending, Amount Awarded: $40,000.

Elizabeth City State University, 1704 Weeksville Rd., Elizabeth City, NC 27909, Grant Type: Predatory Lending, Amount Awarded: $9,562.

Gwinnett Housing Resource Partnership D/B/A the Impact Group, 2825 Breckinridge Blvd., Suite 160, Duluth, GA 30096, Grant Type: Predatory Lending, Amount Awarded: $50,000.

Jacksonville Area Legal Aid, Inc., 126 W. Adams Street, Jacksonville, FL 32202-3849, Grant Type: Predatory Lending, Amount Awarded: $39,555.

Legal Assistance Foundation of Metropolitan Chicago, 111 West Jackson Blvd. Suite 300, Chicago, IL 60604, Grant Type: Predatory Lending, Amount Awarded: $40,000.

Momentive Consumer Credit Counseling Service, 615 N. Alabama Street, Suite 134, Indianapolis, IN 46204-1477, Grant Type: Predatory Lending, Amount Awarded: $40,000.

River City Community Development Corporation, 501 East Main St, Elizabeth City, NC 27909, Amount Awarded: $27,000.

Atlanta (SHFA—PL)

Kentucky Housing Corporation, 1231 Louisville Road, Frankfort, KY 40601, Grant Type: Predatory Lending, Amount Awarded: $57,400.

Denver (LHCA—PL)

City of Forth Worth Housing Department, 1000 Throckmorton St, Fort Worth, TX 76102, Grant Type: Predatory Lending, Amount Awarded: $40,000.

Community Action Project of Tulsa, 717 South Houston, Suite 200, Tulsa, OK 74127, Grant Type: Predatory Lending, Amount Awarded: $25,000.

Community Action Services, 815 South Freedom Blv., Suite 100, Provo, UT 84601, Grant Type: Predatory Lending, Amount Awarded: $12,500.

Family Housing Advisory Services, Incorporated, 2416 Lake Street, Omaha, NE 68111, Grant Type: Predatory Lending, Amount Awarded: $40,000.

Legal Aid of Western Missouri, 1125 Grand Avenue, Suite 1900, Kansas City, MO 64106, Grant Type: Predatory Lending, Amount Awarded: $40,000.

New Mexico Legal Aid, Inc., 500 Copper NW, Suite 300, PO Box 25486, Albuquerque, NM 87102, Grant Type: Predatory Lending, Amount Awarded: $29,032.

Northeast Denver Housing Center, 1735 Gaylord St, Denver, CO 80206-1208, Grant Type: Predatory Lending, Amount Awarded: $9,835.

Oglala Sioux Tribe Partnership for Housing, I, Old Ambulance Building, P.O. Box 3001, Pine Ridge, SD 57770, Grant Type: Predatory Lending, Amount Awarded: $39,844.

Project Bravo, Incorporated, 4838 Montana Ave, El Paso, TX 79903, Grant Type: Predatory Lending, Amount Awarded: $34,438.

Southern Minnesota Regional Legal Services, I, 166 E 4th St., Suite 200, St. Paul, MN 55101, Grant Type: Predatory Lending, Amount Awarded: $40,000.

Denver (SHFA—PL)

Iowa Finance Authority, 100 E. Grand Ave., Suite 250, Des Moines, IA 50309, Grant Type: Predatory Lending, Amount Awarded: $17,629.

New Mexico Mortgage Finance Authority, 344 Fourth Street, SW, P.O. Box 2047, Albuquerque, NM 87102, Grant Type: Predatory Lending, Amount Awarded: $17,629.

South Dakota Housing Development Authority, 221 South Central, P.O. Box 1237, Pierre, SD 57501-1237, Grant Type: Predatory Lending, Amount Awarded: $16,540.

Intermediaries (PL)

Acorn Housing Corporation, 846 N Broad St., 2nd floor, Philadelphia, PA 19130-2234, Grant Type: Predatory Lending, Amount Awarded: $323,439.

Money Management International Inc., 9009 West Loop South, Suite 700, Houston, TX 77096-1719, Grant Type: Predatory Lending, Amount Awarded: $62,000.

National Council of LA Raza, 1126 16th Street, NW, Washington, DC 20036, Grant Type: Predatory Lending, Amount Awarded: $166,667.

National Foundation for Credit Counseling, Inc., 801 Roeder Road, Suite 900, Silver Spring, MD 20910-3372, Grant Type: Predatory Lending, Amount Awarded: $325,000.

Neighborhood Reinvestment Corporation, 1325 G St NW, Suite 800, Washington, DC 20005-3104, Grant Type: Predatory Lending, Amount Awarded: $325,000.

The Housing Partnership Network, 160 State Street, 5th Fl, Boston, MA 02109, Grant Type: Predatory Lending, Amount Awarded: $97,944.

Philadelphia (LHCA—PL)

Chautauqua Opportunities, Incorporated, 17 W Courtney St, Dunkirk, NY 14048-2754, Grant Type: Predatory Lending, Amount Awarded: $10,000.

Coastal Enterprises, Incorporated, 41 Water Street, PO Box 268, Wiscasset, ME 04578-0268, Grant Type: Predatory Lending, Amount Awarded: $14,450. Housing Council in Monroe County, Incorporate, 183 Main St. E Suite 1100, Rochester, NY 14604, Grant Type: Predatory Lending, Amount Awarded: $8,670.

Housing Counseling Services, Incorporated, 2430 Ontario Rd NW, Washington, DC 20009-2705, Grant Type: Predatory Lending, Amount Awarded: $40,000.

Inner City Christian Federation, 816 Madison Ave, SE, Grand Rapids, MI 495017, Grant Type: Predatory Lending, Amount Awarded: $40,000.

Lighthouse Community Development, 46156 Woodward Avenue, Pontiac, MI 48328, Grant Type: Predatory Lending, Amount Awarded: $12,500.

New Jersey Citizen Action, 400 Main Street, Hackensack, NJ 07601-5903, Grant Type: Predatory Lending, Amount Awarded: $40,000.

Pine Tree Legal Services, Incorporated, 88 Federal St, PO Box 547, Portland, ME 04112, Grant Type: Predatory Lending, Amount Awarded: $40,000.

United Neighborhood Centers of Lackawanna COU, 425 Alder Street, Scranton, PA 18505, Grant Type: Predatory Lending, Amount Awarded: $12,264.

YWCA of New Castle County, 233 King St, Wilmington, DE 19801-2521, Grant Type: Predatory Lending, Amount Awarded: $5,000.

Philadelphia (SHFA-PL)

Rhode Island Housing and Mortgage Finance Corporation, 44 Washington St, Providence, RI 02903-1721, Grant Type: Predatory Lending, Amount Awarded: $54,379.

Administration of Resources and Choices, P.O. Box 86802, Tucson, AZ 85754, Grant Type: Predatory Lending, Amount Awarded: $10,000.

Bydesign Financial Solutions, DBA CCCS of Los Angeles, 5628 E. Slauson Ave., Los Angeles, CA 90040-2922, Grant Type: Predatory Lending, Amount Awarded: $21,040.

Consumer Credit Counseling Service of Kern and Tulare Counties, 5300 Lennox Ave, Ste 200, Bakersfield, CA 93309-1662, Grant Type: Predatory Lending, Amount Awarded: $8,347.

Consumer Credit Counseling Service of Southern Nevada, 2650 S. Jones Blvd, Las Vegas, NV 89146, Grant Type: Predatory Lending, Amount Awarded: $40,000.

Fremont Public Association, 1501 North 45th Street, Seattle, WA 98103-6708, Grant Type: Predatory Lending, Amount Awarded: $35,417.

Housing Authority of the City of Fresno, 1331 Fulton Mall, P. O. Box 11985, Fresno, CA 93776, Grant Type: Predatory Lending, Amount Awarded: $30,643.

Human Rights/Fair Housing Commission, 1112 I Street, Suite 250, Sacramento, CA 95814, Grant Type: Predatory Lending, Amount Awarded: $14,693.

Inland Fair Housing Mediation Board, 60 E 9th St, Upland, CA 91786, Grant Type: Predatory Lending, Amount Awarded: $10,462.

Lao Family Community Development, INC., 1551-23rd Avenue, Oakland, CA 94606, Grant Type: Predatory Lending, Amount Awarded: $20,000.

Neighborhood House Association, 841 S. 41st Street, San Diego, CA 92113, Grant Type: Predatory Lending, Amount Awarded: $28,256.

Santa Ana (SHFA-PL)

Washington State Housing Finance Commission, 1000 2nd Avenue, Suite 2700, Seattle, WA 98104-1046 Grant Type: Predatory Lending, Amount Awarded: $10,000.

Homeownership Voucher (41)

Atlanta (LHCA-S8)

Choanoke Area Development Association, 120 Sessoms Drive, Rich Square, NC 27869, Grant Type: Homeownership Voucher, Amount Awarded: $14,040.

Cobb Housing, Incorporated, 268 Lawrence St, Suite 100, Marietta, GA 30060, Grant Type: Homeownership Voucher, Amount Awarded: $15,378.

Consumer Credit Counseling Service of Forsyth County, Inc., 8064 North Point Boulevard, Suite 204, 206 North Spruce St. Suite 2-B, Winston Salem, NC 27106, Grant Type: Homeownership Voucher, Amount Awarded: $30,000.

Housing Authority of the City of Fort Wayne, Indiana, 2013 S. Anthony Blvd., Fort Wayne, IN 46803, Grant Type: Homeownership Voucher, Amount Awarded: $20,027.

Housing Authority of the City of High Point, 500E Russell Avenue, PO Box 1779, High Point, NC 27260, Grant Type: Homeownership Voucher, Amount Awarded: $26,581.

Latin United Communtiy Housing Association, 3541 West North Avenue, Chicago, IL 60647, Grant Type: Homeownership Voucher, Amount Awarded: $23,304.

Northwestern Regional Housing Authority, 869 Highway 105 Ext Ste 10, PO Box 2510, Boone, NC 28607-2510, Grant Type: Homeownership Voucher, Amount Awarded: $25,708.

Sandhills Community Action Program, Inc., 103 Saunders St, PO Box 937, Carthage, NC 28327-0937, Grant Type: Homeownership Voucher, Amount Awarded: $23,304.

Twin Rivers Opportunities, Inc., 318 Craven St., PO Box 1482, New Bern, NC 28563, Grant Type: Homeownership Voucher, Amount Awarded: $24,943.

Western Piedmont Council of Governments, 736 4th Street South-West, PO Box 9026, Hickory, NC 28602, Grant Type: Homeownership Voucher, Amount Awarded: $4,000.

Atlanta (SHFA-S8)

Kentucky Housing Corporation, 1231 Louisville Road, Frankfort, KY 40601, Grant Type: Homeownership Voucher, Amount Awarded: $18,928.

Mississippi Home Corporation, 735 Riverside Drive, PO Box 23369, Jackson, MS 39225-3369, Grant Type: Homeownership Voucher, Amount Awarded: $17,652.

Denver (LHCA-S8)

Boulder County Housing Authority, 3482 North Broadway, Sundquist Bldg., Boulder, CO 80304, Grant Type: Homeownership Voucher, Amount Awarded: $10,000.

CDC of Brownsville, 901 East Levee Street, Brownsville, TX 78520-5804, Grant Type: Homeownership Voucher, Amount Awarded: $25,000.

City of Fort Worth Housing Department, 1000 Throckmorton St, Fort Worth, TX 76102, Grant Type: Homeownership Voucher, Amount Awarded: $30,000.

Dakota County Community Development Agency, 1228 Town Centre Drive, Eagan, MN 55123, Grant Type: Homeownership Voucher, Amount Awarded: $7,470.

Housing Solutions for the Southwest, 295 Girard St, Durango, CO 81303, Grant Type: Homeownership Voucher, Amount Awarded: $5,000.

Intermediaries (S8)

Acorn Housing Corporation, 846 N Broad St 2nd floor, 2nd Floor, Philadelphia, PA 19130-2234, Grant Type: Homeownership Voucher, Amount Awarded: $275,000.

National Council of La Raza, 1126 16th Street, NW, Washington, DC 20036, Grant Type: Homeownership Voucher, Amount Awarded: $133,333.

National Foundation for Credit Counseling, Inc., 801 Roeder Road, Suite 900, Silver Spring, MD 20910-3372, Grant Type: Homeownership Voucher, Amount Awarded: $46,000.

Neighborhood Reinvestment Corporation, 1325 G St NW, Suite 800, Washington, DC 20005-3104, Grant Type: Homeownership Voucher, Amount Awarded: $275,000.

The Housing Partnership Network, 160 State Street, 5th Fl, Boston, MA 02109, Grant Type: Homeownership Voucher, Amount Awarded: $55,218.

Philadelphia (LHCA-S8)

Arundel Community Development Service, Inc, 2666 Riva Road, Suite 210, Annapolis, MD 21401, Grant Type: Homeownership Voucher, Amount Awarded: $10,000.

Better Neighborhoods, Incorporated, 986 Albany St, Schenectady, NY 2307, Grant Type: Homeownership Voucher, Amount Awarded: $18,000.

Chautauqua Opportunities, Incorporated, 17 W Courtney St, Dunkirk, NY 14048-2754, Grant Type: Homeownership Voucher, Amount Awarded: $20,000.

Coastal Enterprises, Incorporated, 41 Water Street, PO Box 268, Wiscasset, ME 04578-0268, Grant Type: Homeownership Voucher, Amount Awarded: $10,010.

Inner City Christian Federation, 816 Madison Ave, SE, Grand Rapids, MI 49507, Grant Type: Homeownership Voucher, Amount Awarded: $30,000.

Lighthouse Community Development, 46156 Woodward Avenue, Pontiac, MI 48328, Grant Type: Homeownership Voucher, Amount Awarded: $7,500.

New Jersey Citizen Action, 400 Main Street, Hackensack, NJ 07601-5903, Grant Type: Homeownership Voucher, Amount Awarded: $30,000.

Plymouth Redevelopment Authority, 11 Lincoln Street, Plymouth, MA 02360, Grant Type: Homeownership Voucher, Amount Awarded: $6,000.

Rural Ulster Preservation Company, 289 Fair St, Kingston, NY 12401, Grant Type: Homeownership Voucher, Amount Awarded: $19,528.

YWCA of New Castle County, 233 King St, Wilmington, DE 19801-2521, Grant Type: Homeownership Voucher, Amount Awarded: $5,000.

Philadelphia (SHFA-S8)

Michigan State Housing Development Authority, 735 E. Michigan Avenue, P.O. Box 30044, Lansing, MI 48909, Grant Type: Homeownership Voucher, Amount Awarded: $34,655.

Santa Ana (LHCA-S8)

Anaheim Housing Authority—Anaheim Home Coun, 201 S. Anaheim Blvd. Ste 203, Anaheim, CA 92805, Grant Type: Homeownership Voucher, Amount Awarded: $30,000.

City of Vacaville Office of Housing and Redev, 40 Eldridge Ave. Suite 2, Vacaville, CA 95688-6800, Grant Type: Homeownership Voucher, Amount Awarded: $5,000.

Consumer Credit Counseling Service of Kern and Tulare Counties, 5300 Lennox Ave Ste 200, Bakersfield, CA 93309-1662, Grant Type: Homeownership Voucher, Amount Awarded: $30,000.

Family Housing Resources, 1700 East Fort Lowell Road, Suite 101, Tucson, AZ 85719, Grant Type: Homeownership Voucher, Amount Awarded: $12,132.

Housing Authority of the City of Fresno, 1331 Fulton Mall, P. O. Box 11985, Fresno, CA 93776, Grant Type: Homeownership Voucher, Amount Awarded: $30,000.

Lao Family Community Development, Inc., 1551-23rd Avenue, Oakland, CA 94606, Grant Type: Homeownership Voucher, Amount Awarded: $20,000.

Open Door Counseling Center, 34420 SW Tualatin Valley Hwy, Hillsboro, OR 97123-5470, Grant Type: Homeownership Voucher, Amount Awarded: $2,000.

Santa Ana (SHFA-S8)

Washington State Housing Finance Commission, 1000 2nd Avenue, Suite 2700, Seattle, WA 98104-1046, Grant Type: Homeownership Voucher, Amount Awarded: $10,000.

HECM (1)

Intermediary (HECM)

AARP Foundation, 601 E. Street, NW, Washington, DC 20049, Grant Type: HECM, Amount Awarded: $3,000,000.

[FR Doc. 06-2658 Filed 3-20-06; 8:45 am]

BILLING CODE 4210-67-P